DEPARTMENT OF AGRICULTURE

Grain Inspection, Packers and Stockyards Administration

Designation for the Jamestown, ND; Lincoln, NE; Memphis, TN; and Sioux City, IA Areas

AGENCY: Grain Inspection, Packers and Stockyards Administration, USDA.

ACTION: Notice.

SUMMARY: GIPSA is announcing the designation of Grain Inspection, Inc. (Jamestown); Lincoln Inspection Service, Inc. (Lincoln); Midsouth Grain Inspection Service (Midsouth); and Sioux City Grain Inspection and Weighing Service, Inc. (Sioux City) to provide official services under the United States Grain Standards Act (USGSA), as amended.

DATES: Effective Date: April 1, 2012.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the September 20, 2011 Federal Register (76 FR 58241), GIPSA requested applications for designation to provide official services in the geographic areas presently serviced by Jamestown, Lincoln, Midsouth, and Sioux City. Applications were due by October 20, 2011.

In the Lincoln, NE; Memphis, TN; and Sioux City, IA areas, Lincoln, Midsouth, and Sioux City, respectively were the sole applicants for designation to provide official services.

In the Jamestown, ND area, Jamestown applied for the entire geographic area and North Dakota Grain Inspection Service, Inc. (North Dakota) applied for a portion of the geographic area. GIPSA received three favorable service comments from customers requesting that North Dakota be designated for the geographic area they applied for since they currently receive service by North Dakota through the exceptions program. GIPSA reviewed designation criteria in section 79(f) of the USGSA (7 U.S.C. 79(f)) to determine the best qualified applicant to provide service. Criteria include past performance, the stability and quality of service, cooperation with GIPSA, adequacy of resources, the cost of inspection service, the comments received, the accuracy and detail of their plans, past practices, and financial impact. After a comprehensive review of the designation criteria, GIPSA determined that Jamestown is the best qualified applicant for the Jamestown, ND area.

GIPSA evaluated all available information regarding the designation criteria in section 79(f) of the USGSA (7 U.S.C. 79(f)) and determined that the applicants Jamestown, Lincoln, Midsouth, and Sioux City are qualified to provide official services in the geographic area specified in the Federal Register on September 20, 2011. This designation action to provide official services in these specified areas is effective April 1, 2012 and terminates on March 31, 2015.

Interested persons may obtain official services by contacting this agency at the following telephone numbers:

Official agency | Headquarters location | Telephone | Designation start | Designation end
Jamestown | Jamestown, ND | (701) 252-1290 | 4/1/2012 | 3/31/2015
Lincoln | Lincoln, NE | (402) 435-4386 | 4/1/2012 | 3/31/2015
Midsouth | Memphis, TN | (901) 942-3216 | 4/1/2012 | 3/31/2015
Sioux City | Sioux City, IA | (712) 255-8073 | 4/1/2012 | 3/31/2015

Section 79(f) of the USGSA authorizes the Secretary to designate a qualified applicant to provide official services in a specified area after determining that the applicant is better able than any other applicant to provide such official services (7 U.S.C. 79(f)).

Under section 79(g) of the USGSA, designations of official agencies are effective for no longer than three years unless terminated by the Secretary; however, designations may be renewed according to the criteria and procedures prescribed in section 79(f) of the USGSA.

Authority: 7 U.S.C. 71-87k.

Alan R. Christian,
Acting Administrator, Grain Inspection, Packers and Stockyards Administration.

[FR Doc. 2012-5250 Filed 3-2-12; 8:45 am]

BILLING CODE 3410-KD-P